DEPARTMENT OF TRANSPORTATION

Federal Aviation Administration

14 CFR Part 71

[Docket No. FAA-2018-0829; Airspace Docket No. 18-AGL-23]

RIN 2120-AA66

Proposed Amendment of Class D and E Airspace; Milwaukee, WI

AGENCY: Federal Aviation Administration (FAA), DOT.

ACTION: Notice of proposed rulemaking (NPRM).

SUMMARY: This action proposes to amend Class D airspace and Class E airspace extending upward from 700 feet above the surface at Lawrence J. Timmerman Airport, Milwaukee, WI. The FAA is proposing this action as the result of an airspace review caused by the decommissioning of the Timmerman VHF omnidirectional range (VOR) navigation aid, which provided navigation information for the instrument procedures at this airport, as part of the VOR Minimum Operational Network (MON) Program. This action would also replace the outdated term “Airport/Facility Directory” with “Chart Supplement”. Airspace redesign is necessary for the safety and management of instrument flight rules (IFR) operations at this airport.

DATES: Comments must be received on or before November 29, 2018.

ADDRESSES: Send comments on this proposal to the U.S. Department of Transportation, Docket Operations, West Building Ground Floor, Room W12-140, 1200 New Jersey Avenue SE, Washington, DC 20590; telephone (202) 366-9826, or (800) 647-5527. You must identify FAA Docket No. FAA-2018-0829; Airspace Docket No. 18-AGL-23, at the beginning of your comments. You may also submit comments through the internet at http://www.regulations.gov. You may review the public docket containing the proposal, any comments received, and any final disposition in person in the Dockets Office between 9:00 a.m. and 5:00 p.m., Monday through Friday, except federal holidays.

FAA Order 7400.11C, Airspace Designations and Reporting Points, and subsequent amendments can be viewed online at http://www.faa.gov/air_traffic/publications/. For further information, you can contact the Airspace Policy Group, Federal Aviation Administration, 800 Independence Avenue SW, Washington, DC 20591; telephone: (202) 267-8783. The Order is also available for inspection at the National Archives and Records Administration (NARA). For information on the availability of FAA Order 7400.11C at NARA, call (202) 741-6030, or go to http://www.archives.gov/federal-register/cfr/ibr-locations.html.

FAA Order 7400.11, Airspace Designations and Reporting Points, is published yearly and effective on September 15.

FOR FURTHER INFORMATION CONTACT: Jeffrey Claypool, Federal Aviation Administration, Operations Support Group, Central Service Center, 10101 Hillwood Parkway, Fort Worth, TX 76177; telephone (817) 222-5711.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it would amend Class D airspace and Class E airspace extending upward from 700 feet above the surface at Lawrence J. Timmerman Airport, Milwaukee, WI, to support IFR operations at this airport.

Comments Invited

Interested parties are invited to participate in this proposed rulemaking by submitting such written data, views, or arguments, as they may desire. Comments that provide the factual basis supporting the views and suggestions presented are particularly helpful in developing reasoned regulatory decisions on the proposal. Comments are specifically invited on the overall regulatory, aeronautical, economic, environmental, and energy-related aspects of the proposal. Communications should identify both docket numbers and be submitted in triplicate to the address listed above. Commenters wishing the FAA to acknowledge receipt of their comments on this notice must submit with those comments a self-addressed, stamped postcard on which the following statement is made: “Comments to Docket No. FAA-2018-0829; Airspace Docket No. 18-AGL-23.” The postcard will be date/time stamped and returned to the commenter.

All communications received before the specified closing date for comments will be considered before taking action on the proposed rule. The proposal contained in this notice may be changed in light of the comments received. A report summarizing each substantive public contact with FAA personnel concerned with this rulemaking will be filed in the docket.

Availability of NPRMs

An electronic copy of this document may be downloaded through the internet at http://www.regulations.gov. Recently published rulemaking documents can also be accessed through the FAA's web page at http://www.faa.gov/air_traffic/publications/airspace_amendments/.

You may review the public docket containing the proposal, any comments received, and any final disposition in person in the Dockets Office (see the ADDRESSES section for the address and phone number) between 9:00 a.m. and 5:00 p.m., Monday through Friday, except federal holidays. An informal docket may also be examined during normal business hours at the Federal Aviation Administration, Air Traffic Organization, Central Service Center, Operations Support Group, 10101 Hillwood Parkway, Fort Worth, TX 76177.

Availability and Summary of Documents for Incorporation by Reference

This document proposes to amend FAA Order 7400.11C, Airspace Designations and Reporting Points, dated August 13, 2018, and effective September 15, 2018. FAA Order 7400.11C is publicly available as listed in the ADDRESSES section of this document. FAA Order 7400.11C lists Class A, B, C, D, and E airspace areas, air traffic service routes, and reporting points.

The Proposal

The FAA is proposing an amendment to Title 14 Code of Federal Regulations (14 CFR) part 71 by:

Amending Class D airspace to within a 3.9-mile radius (reduced from a 4.4-mile radius) of Lawrence J. Timmerman Airport, Milwaukee, WI; and updating the airspace designation from “Milwaukee, Lawrence J. Timmerman Airport, WI” to “Milwaukee, WI”, removing the city from the airport name, and making an editorial change replacing “Airport/Facility Directory” with “Chart Supplement” to comply with FAA Order 7400.2L, Procedures for Handling Airspace Matters; and

Amending Class E airspace extending upward from 700 feet above the surface to within a 6.4-mile radius (reduced from an 8.9-mile radius) of Lawrence J. Timmerman Airport, Milwaukee, WI; adding an extension within 2 miles each side of the 218° bearing from Lawrence J. Timmerman Airport extending from the 6.4-mile radius to 11.7 miles southwest of the airport; adding an extension within 9 miles west and 6 miles east of the 328° bearing from the Lawrence J. Timmerman: RWY 15L-LOC extending from the 6.4-mile radius to 10 miles northwest of the airport.

This action is necessary due to an airspace review caused by the decommissioning of the Timmerman VOR, which provided navigation information for the instrument procedures at these airports, as part of the VOR MON Program.

Class D and E airspace designations are published in paragraph 5000 and 6005, respectively, of FAA Order 7400.11C, dated August 13, 2018, and effective September 15, 2018, which is incorporated by reference in 14 CFR 71.1. The Class D and E airspace designation listed in this document will be published subsequently in the Order.

Regulatory Notices and Analyses

The FAA has determined that this regulation only involves an established body of technical regulations for which frequent and routine amendments are necessary to keep them operationally current, is non-controversial and unlikely to result in adverse or negative comments. It, therefore: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, would not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

Accordingly, pursuant to the authority delegated to me, the Federal Aviation Administration proposes to amend 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11C, Airspace Designations and Reporting Points, dated August 13, 2018, and effective September 15, 2018, is amended as follows:

Paragraph 5000 Class D Airspace.

* * * * *

AGL WI D Milwaukee, WI [Amended]

Lawrence J. Timmerman Airport, WI

(Lat. 43°06′39″ N, long. 88°02′04″ W)

That airspace extending upward from the surface to and including 3,200 feet MSL within a 4.4-mile radius of Lawrence J. Timmerman Airport, excluding that airspace within the Milwaukee, WI, Class C airspace area. This Class D airspace area is effective during the specific dates and times established in advance by a Notice to Airmen. The effective date and time will thereafter be continuously published in the Chart Supplement.

Paragraph 6005 Class E Airspace Areas Extending Upward From 700 Feet or More Above the Surface of the Earth.

* * * * *

AGL WI E5 Milwaukee, WI [Amended]

General Mitchell International Airport, WI

(Lat. 42°56′49″ N, long. 87°53′49″ W)

Batten International Airport, WI

(Lat. 42°45′40″ N, long. 87°48′50″ W)

Waukesha County Airport, WI

(Lat. 43°02′28″ N, long. 88°14′13″ W)

Lawrence J. Timmerman Airport, WI

(Lat. 43°06′37″ N, long. 88°02′04″ W)

Lawrence J. Timmerman: RWY 15L-LOC

(Lat. 43°06′20″ N, long. 88°01′44″ W)

That airspace extending upward from 700 feet above the surface within a 8.4-mile radius of General Mitchell International Airport, and within an 6.6-mile radius of Batten International Airport, and within a 7.5-mile radius of Waukesha County Airport, and within 2 miles each side of the 282° bearing from Waukesha County Airport extending from the 7.5-mile radius to 10.5 miles west of Waukesha County Airport, and within a 6.4-mile radius of Lawrence J. Timmerman Airport, and within 2 miles each side of the 218° bearing from the Lawrence J. Timmerman Airport extending from the 6.4-mile radius to 11.7 miles northwest of Lawrence J. Timmerman Airport, and within 9 miles west and 6 miles east of the 328° bearing from the Lawrence J. Timmerman: RWY15-LOC extending from the 6.4-mile radius to 10 miles from the Lawrence J. Timmerman Airport.

Issued in Fort Worth, Texas, on October 3, 2018.
Walter Tweedy,
Acting Manager, Operations Support Group, ATO Central Service Center.

[FR Doc. 2018-22175 Filed 10-12-18; 8:45 am]

BILLING CODE 4910-13-P